CONSUMER PRODUCT SAFETY COMMISSION

Public Availability of Consumer Product Safety Commission FY 2010 Service Contract Inventory

AGENCY: Consumer Product Safety Commission.

ACTION: Notice.

SUMMARY: The Consumer Product Safety Commission (“CPSC” or “we”), in accordance with section 743(c) of Division C of the Consolidated Appropriations Act, 2010 (Pub. L. 111-117, 123 Stat. 3034, 3216), is announcing the availability of its service contract inventory for fiscal year (“FY”) 2010. This inventory provides information on service contract actions over $25,000 that we made in FY 2010.

FOR FURTHER INFORMATION CONTACT: Donna Hutton, Director, Division of Procurement Services, U.S. Consumer Product Safety Commission, 4330 East West Highway, Bethesda, Maryland 20814. Telephone: 301-504-7009; e-mail dhutton@cpsc.gov.

SUPPLEMENTARY INFORMATION: On December 16, 2009, the Consolidated Appropriations Act, 2010 “Consolidated Appropriations Act”), Public Law 111-117, became law. Section 743(a) of the Consolidated Appropriations Act, titled “Service Contract Inventory Requirement,” requires agencies to submit to the Office of Management and Budget (“OMB”) an annual inventory of service contracts awarded or extended through the exercise of an option on or after April 1, 2010 and describes the contents of the inventory. The contents of the inventory include:

(A) A description of the services purchased by the executive agency and the role the services played in achieving agency objectives, regardless of whether such a purchase was made through a contract or task order;

(B) The organizational component of the executive agency administering the contract, and the organizational component of the agency whose requirements are being met through contractor performance of the service;

(C) The total dollar amount obligated for services under the contract and the funding source for the contract;

(D) The total dollar amount invoiced for services under the contract;

(E) The contract type and date of award;

(F) The name of the contractor and place of performance;

(G) The number and work location of contractor and subcontractor employees, expressed as full-time equivalents for direct labor, compensated under the contract;

(H) Whether the contract is a personal services contract; and

(I) Whether the contract was awarded on a noncompetitive basis, regardless of date of award.

Section 743(a)(3)(A) through (I) of the Consolidated Appropriations Act. Section 743(c) of the Consolidated Appropriations Act requires agencies to “publish in the Federal Register a notice that the inventory is available to the public.”

Consequently, through this notice, we are announcing that the CPSC's service contract inventory for FY 2010 is available to the public. The inventory provides information on service contract actions over $25,000 that we made in FY 2010. The information is organized by function to show how contracted resources are distributed throughout the CPSC. We developed the inventory in accordance with guidance issued on November 5, 2010 by the OMB. (The OMB guidance is available at http://www.whitehouse.gov/sites/default/files/omb/procurement/memo/service-contract-inventories-guidance-11052010.pdf.) The CPSC's Division of Procurement Services has posted its inventory, and a summary of the inventory can be found at our homepage at the following link: http://www.cpsc.gov/cpscpub/pubs/reports/2010inventories.pdf.

Dated: February 14, 2011.
Todd A. Stevenson,
Secretary, Consumer Product Safety Commission.

[FR Doc. 2011-3609 Filed 2-16-11; 8:45 am]

BILLING CODE 6355-01-P